SURFACE TRANSPORTATION BOARD

[Docket No. AB 1290X; Docket No. AB 303 (Sub-No. 52X)]

Wisconsin Rapids Railroad, L.L.C—Discontinuance of Service Exemption—in Wood County, WI; Wisconsin Central Ltd.—Abandonment Exemption—in Wood County, WI

On September 20, 2019, Wisconsin Rapids Railroad, L.L.C. (WRR), and Wisconsin Central Ltd. (WCL) (collectively, Petitioners) filed with the Surface Transportation Board (Board) a joint petition under 49 U.S.C. 10502 for exemption from the prior approval requirements of 49 U.S.C. 10903 for WRR to discontinue service over, and WCL to abandon, approximately 1.1 miles of railroad line known as the Biron Lead extending from milepost 0.4 at Plover Road (State Highway 54) north to milepost 1.5 at South Biron Drive in Biron, Wood County, Wis. (the Line).¹ The Line traverses U.S. Postal Service Zip Code 54494.

¹ WRR's lease of the Line from WCL was the subject of a notice of exemption served on August 16, 2019. Wis. Rapids R.R.—Lease & Operation Exemption—Line of Wis. Cent. Ltd., FD 36339 (STB served Aug. 16, 2019).

According to Petitioners, after discontinuance and abandonment, the rail and track materials on the Line will remain in place and will be transferred to ND Paper Inc. (ND Paper), which owns a paper mill that is the sole rail-served facility on the Line. (Joint Pet. 1-2.) Petitioners state that upon consummation of the discontinuance and abandonment and conveyance of the Line to ND Paper, WCL will continue to handle ND Paper's traffic to Plover Road pursuant to a rail transportation contract, and WRR (or an affiliate) will handle traffic over the Line as a private contract switching carrier for ND Paper. (Joint Pet. 2.) ND Paper supports the joint petition. (Joint Pet., Ex. C.)

According to WCL, the Line does not contain any federally granted rights-of-way and any relevant documentation in WCL's possession will be made available promptly to those requesting it.

The interest of railroad employees will be protected by the conditions set forth in Oregon Short Line Railroad—Abandonment Portion Goshen Branch Between Firth & Ammon, in Bingham & Bonneville Counties, Idaho, 360 I.C.C. 91 (1979).

By issuance of this notice, the Board is instituting an exemption proceeding pursuant to 49 U.S.C. 10502(b). A final decision will be issued by January 8, 2020.

Any offer of financial assistance (OFA) under 49 CFR 1152.27(b)(2) will be due no later than 120 days after the filing of the petition for exemption, or 10 days after service of a decision granting the petition for exemption, whichever occurs sooner. Persons interested in submitting an OFA must file a formal expression of intent to file an offer by October 21, 2019, indicating the type of financial assistance they wish to provide (i.e., subsidy or purchase) and demonstrating that they are preliminarily financially responsible. See 49 CFR 1152.27(c)(1)(i).

Following authorization for abandonment, the Line may be suitable for other public use, including interim trail use. Any request for a public use condition under 49 CFR 1152.28 or for trail use/rail banking under 49 CFR 1152.29 will be due no later than October 30, 2019.²

² Filing fees for OFAs and trail use requests can be found at 49 CFR 1002.2(f)(25) and (27), respectively.

All pleadings, referring to Docket Nos. AB 1290X and AB 303 (Sub-No. 52X), must be filed with the Surface Transportation Board either via e-filing or in writing addressed to 395 E Street SW, Washington, DC 20423-0001. In addition, a copy of each pleading must be served on (1) WRR's representative, Michael E. Gray, Watco Companies, LLC, 315 West 3rd Street, Pittsburg, KS 66762 and (2) WCL's representative, Thomas J. Litwiler, Fletcher & Sippel LLC, 29 North Wacker Dr., Suite 800, Chicago, IL 60606. Replies to this petition are due on or before October 30, 2019.

Persons seeking further information concerning abandonment and discontinuance procedures may contact the Board's Office of Public Assistance, Governmental Affairs, and Compliance at (202) 245-0238 or refer to the full abandonment and discontinuance regulations at 49 CFR part 1152. Questions concerning environmental issues may be directed to the Board's Office of Environmental Analysis (OEA) at (202) 245-0305. Assistance for the hearing impaired is available through the Federal Relay Service at (800) 877-8339.

An environmental assessment (EA) (or environmental impact statement (EIS), if necessary) prepared by OEA will be served upon all parties of record and upon any agencies or other persons who comment during its preparation. Other interested persons may contact OEA to obtain a copy of the EA (or EIS). EAs in abandonment proceedings normally will be made available within 60 days of the filing of the petition. The deadline for submission of comments on the EA generally will be within 30 days of its service.

Board decisions and notices are available at www.stb.gov.

Decided: October 3, 2019.
By the Board, Allison C. Davis, Director, Office of Proceedings.
Kenyatta Clay,
Clearance Clerk.

[FR Doc. 2019-22195 Filed 10-9-19; 8:45 am]

BILLING CODE 4915-01-P